DEPARTMENT OF COMMERCE

National Oceanic and Atmospheric Administration

RIN 0648-XG944

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will hold four public stakeholder meetings, including one webinar meeting, to solicit comments on the development of the Council's 2020-24 Strategic Plan.

DATES: The meetings will be held between Wednesday, April 24, 2019 and Tuesday, May 21, 2019. For specific dates and times, see SUPPLEMENTARY INFORMATION.

ADDRESSES: The public stakeholder meetings will be held in Narragansett, Rhode Island; Toms River, New Jersey; and Fort Monroe, Virginia. In addition, one meeting will be held via internet webinar. For specific locations, see SUPPLEMENTARY INFORMATION. Details on the proposed agenda, connection information, and briefing materials will be posted at the MAFMC's website: www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Council will seek stakeholder input on the development of its 2020-24 Strategic Plan through a series of public meetings. At the meetings, the public will have the opportunity to review preliminary results of a recent stakeholder survey, provide feedback on the Council's performance relative to the 2014-2018 strategic plan, and provide recommendations for priority issues to be addressed in the 2020-24 plan.

The meeting schedule is as follows:

1. Wednesday, April 24, 2019 at 6 p.m.; University of Rhode Island Bay Campus, Corless Auditorium, South Ferry Road, Narragansett, RI 02882.

2. Monday, May 6, 2019 at 5:30 p.m.; Ocean County Administrative Building Room 119, 101 Hooper Ave., Toms River, NJ 08753.

3. Tuesday, May 7, 2019 at 5:30 p.m.; Webinar meeting, with connection information to be posted at www.mafmc.org prior to the meeting.

4. Tuesday, May 21, 2019 at 5:30 p.m.; Virginia Marine Resources Commission, 380 Fenwick Road, Bldg. 96, Fort Monroe, VA 23651.

Background documents will be posted at the Council's website (www.mafmc.org) prior to the meetings.

Special Accommodations

The meetings are physically accessible to people with disabilities. Requests for sign language interpretation or other auxiliary aid should be directed to M. Jan Saunders, (302) 526-5251, at least 5 days prior to the meeting date.

Dated: April 3, 2019.
Rey Israel Marquez,
Acting Deputy Director, Office of Sustainable Fisheries, National Marine Fisheries Service.

[FR Doc. 2019-06890 Filed 4-5-19; 8:45 am]

BILLING CODE 3510-22-P